DEPARTMENT OF AGRICULTURE

Animal and Plant Health Inspection Service

[Docket No. 02-013-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the specifications for the humane handling, care, treatment, and transportation of marine mammals under the Animal Welfare Act regulations.

DATES: We will consider all comments we receive that are postmarked, delivered, or e-mailed by April 29, 2002.

ADDRESSES: You may submit comments by postal mail/commercial delivery or by e-mail. If you use postal mail/commercial delivery, please send four copies of your comment (an original and three copies) to: Docket No. 02-013-1, Regulatory Analysis and Development, PPD, APHIS, Station 3C71, 4700 River Road Unit 118, Riverdale, MD 20737-1238. Please state that your comment refers to Docket No. 02-013-1. If you use e-mail, address your comment to regulations@aphis.usda.gov. Your comment must be contained in the body of your message; do not send attached files. Please include your name and address in your message and “Docket No. 02-013-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Animal Welfare Act regulations and standards for marine mammals, contact Dr. Barbara Kohn, Senior Staff Veterinarian, Animal Care, APHIS, 4700 River Road Unit 84, Riverdale, MD 20737-1234; (301) 734-7833. For copies of more detailed information on the information collection, contact Mrs. Celeste Sickles, APHIS' Information Collection Coordinator, at (301) 734-7477.

SUPPLEMENTARY INFORMATION: Title: Animal Welfare.

OMB Number: 0579-0115.

Type of Request: Extension of approval of an information collection.

Abstract: The Animal Welfare Act standards and regulations have been promulgated to promote and ensure the humane care and treatment of regulated animals. The regulations in 9 CFR part 3, subpart E, address specifications for the humane handling, care, treatment, and transportation of marine mammals. These specifications require facilities to keep certain records and provide certain information that are needed to enforce the Animal Welfare Act and the regulations.

The regulations (9 CFR part 3, subpart E) require facilities to complete many information collection activities, such as written protocols for cleaning, contingency plans, daily records of animal feeding, water quality records, documentation of facility-based employee training, plans for any animals kept in isolation, medical records, a description of the interactive program, and health certificates. These information collection activities do not mandate the use of any official government form and are necessary to enforce regulations intended to ensure the humane care and treatment of marine mammals.

We are asking the Office of Management and Budget (OMB) to approve our use of these information collection activities for an additional 3 years.

The purpose of this notice is to solicit comments form the public (as well as affected agencies) concerning our information collection. These comments will help us:

(1) Evaluate whether the collection of information is necessary fo the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5952 hours per response.

Respondents: Employees or attendants of USDA licensed/registered marine mammal facilities.

Estimated annual number of respondents: 3,170.

Estimated annual number of responses per respondent: 8.6208.

Estimated annual number of responses: 27,328.

Estimated total annual burden on respondents: 16,265 hours. (Due to averaging, the total annual burden hours may not equal the product of the annual number of responses multiplied by the reporting burden per response.)

All responses to this notice will be summarized and included in the request for OMB approval. All comments will also become a matter of public record.

Done in Washington, DC, this 22nd day of February 2002.
W. Ron DeHaven,
Acting Administrator, Animal and Plant Health Inspection Service.

[FR Doc. 02-4807 Filed 2-27-02; 8:45 am]

BILLING CODE 3410-34-P